ENVIRONMENTAL PROTECTION AGENCY

[OAR-2004-0512; FRL-7904-1]

Agency Information Collection Activities: Proposed Collection; Comment Request; Vehicle Service Information Web Site Audit EPA ICR Number 2181.01

AGENCY: Environmental Protection Agency

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before June 27, 2005.

ADDRESSES: Submit your comments, referencing docket ID number OAR-2004-0512, to EPA online using EDOCKET (our preferred method), by e-mail to “a-and-r-Docket@epa.gov”, or by mail to: EPA Docket Center, Environmental Protection Agency, Air and Radiation Docket and Information Center, 1200 Pennsylvania Ave., NW., Washington, DC 20460.

FOR FURTHER INFORMATION CONTACT: Holly Pugliese, Certification and Compliance Division, U.S. Environmental Protection Agency, 2000 Traverwood, Ann Arbor, MI 48105, Telephone 734-214-4288, Internet e-mail “pugliese.holly@epa.gov.”

SUPPLEMENTARY INFORMATION: EPA has established a public docket for this ICR under Docket ID number OAR-2004-0512, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: Entities potentially affected by this action are independent aftermarket service providers.

Title: Vehicle Service Information Web Site Audit.

Abstract: EPA finalized regulations in June of 2003 (68 FR 38427; June 27, 2003) requiring auto manufacturers to launch full text Web sites containing all required service information for 1996 and later model years. In order to assess the effectiveness of the web site provisions of the regulations, EPA believes that input from independent technicians must be of primary consideration. As part of our broader efforts to evaluate the OEM web sites, EPA is initiating a process to gather feedback directly from the technician community on their experiences with the web sites and to communicate those findings directly to the OEMs and the service industry as a whole. EPA staff will use this data in conjunction with other internal analyses to assess the effectiveness of the service information web sites that are required by the regulations. In addition, this information will be used by the Agency to determine if manufacturer guidance or changes to the regulations are needed. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Participation in the audit requires the availability of desk top or lap top computers in the maintenance facility or shop. In addition, internet access is needed in the facility in order to access the information on individual automobile manufacturer Web sites. It is anticipated that a vast majority of vehicle repair facilities have already made these capital investments for the day to day operations of their businesses and that no additional costs will be incurred by technicians who participate in the audit. In addition, the automobile manufacturers have agreed to arrange for free access to all their Web sites for participants for the 3-4 month duration of the audit. Therefore, participants will not incur any additional charges or fees as a result of participating in the audit. EPA otherwise anticipates approximately 250 technicians to and that they will spend approximately 1-2 hours per week over a 12-week time period to electronically complete and return short audit questionnaires. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 18, 2005.
Karl Simon,
Acting Director, Office of Transportation and Air Quality.

[FR Doc. 05-8439 Filed 4-26-05; 8:45 am]

BILLING CODE 6560-50-P